DEPARTMENT OF TRANSPORTATION

Federal Aviation Administration

14 CFR Part 39

[Docket No. 2003-NM-16-AD]

RIN 2120-AA64

Airworthiness Directives; Airbus Model A300 B2 and B4 Series Airplanes

AGENCY: Federal Aviation Administration, DOT.

ACTION: Supplemental notice of proposed rulemaking; reopening of comment period.

SUMMARY: This document revises an earlier proposed airworthiness directive (AD), applicable to all Airbus Model A300 B2 and B4 series airplanes, that would have superseded an existing AD that currently requires determining the part and amendment numbers of the variable lever arm (VLA) of the rudder control system to verify that the parts were installed using the correct standard, and corrective actions if necessary. For certain VLAs, the proposed AD would also have required repetitive inspections for damage, and replacement with a new VLA if necessary. This new action revises the proposed AD by mandating a terminating modification of the VLA, which would end the repetitive inspections. This new action also changes the applicability in the proposed AD. The actions specified by this new proposed AD are intended to prevent failure of both spring boxes of certain VLAs due to corrosion damage, which could result in loss of rudder control and consequent reduced controllability of the airplane. This action is intended to address the identified unsafe condition.

DATES: Comments must be received by October 26, 2004.

ADDRESSES: Submit comments in triplicate to the Federal Aviation Administration (FAA), Transport Airplane Directorate, ANM-114, Attention: Rules Docket No. 2003-NM-16-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-16-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-16-AD.” The postcard will be date stamped and returned to the commenter.

Availability of NPRMs

Any person may obtain a copy of this NPRM by submitting a request to the FAA, Transport Airplane Directorate, ANM-114, Attention: Rules Docket No. 2003-NM-16-AD, 1601 Lind Avenue, SW., Renton, Washington 98055-4056.

Discussion

A proposal to amend part 39 of the Federal Aviation Regulations (14 CFR part 39) to add an airworthiness directive (AD), applicable to all Airbus Model A300 B2 and B4 series airplanes, was published as a notice of proposed rulemaking (NPRM) (hereafter referred to as the “original NPRM”) in the Federal Register on May 3, 2004 (69 FR 24097). The original NPRM proposed to supersede AD 2001-22-02, amendment 39-12481 (66 FR 54416, October 29, 2001), which is applicable to certain Airbus Model A300 B2 and B4 series airplanes. That original NPRM would have continued to require determining the part and amendment number of the variable lever arm (VLA) of the rudder control system to verify the parts were installed using the correct standard, and corrective actions if necessary. For certain VLAs, the original NPRM would have added repetitive inspections for damage, and replacement with a new VLA if necessary. The original NPRM would also have provided an optional action to replace the VLA with a new VLA, which would constitute terminating action for the repetitive inspections. The original NPRM was prompted by a new inspection program developed by the manufacturer that introduces a repetitive inspection of VLAs that are equipped with spring boxes having certain part numbers. Failure of both spring boxes of certain VLAs due to corrosion damage could result in loss of rudder control and consequent reduced controllability of the airplane.

In the preamble to the original NPRM, the FAA indicated that the actions required by that NPRM were considered “interim action” and that further rulemaking action was being considered. We have now determined that further rulemaking is indeed necessary, and this supplemental NPRM follows from that determination.

Actions Since Issuance of Original NPRM

Since the issuance of the original NPRM, the Direction Générale de l'Aviation Civile (DGAC), which is the airworthiness authority for France, issued French airworthiness directive 2004-091(B), dated June 23, 2004. The French airworthiness directive mandates modification of the VLA, which ends the repetitive inspections required by French airworthiness directive 2003-006(B), dated January 8, 2003 (referenced in the original NPRM). The revised French airworthiness directive supersedes French airworthiness directive F-2003-006(B).

Explanation of Relevant Service Information

Airbus has issued Service Bulletin A300-27-0198, dated December 1, 2003, which describes procedures for modification of the VLA of the rudder control system. The modification includes installation of new, improved spring boxes, and re-identification of certain placards. The service bulletin specifies that accomplishing the modification eliminates the need for the repetitive inspections specified in Airbus Service Bulletin A300-27-0196, Revision 01, dated November 13, 2002 (which was referenced in the NPRM as the appropriate source of service information for accomplishment of the inspections and corrective actions). The service bulletin also describes procedures for a functional test of the VLA unit. The service bulletin references Goodrich Actuation Systems Service Bulletin 27-21-1H, dated December 8, 2003, as an additional source of service information for accomplishing the modification.

Conclusion

Since these changes expand the scope of the originally proposed rule, we have determined that it is necessary to reopen the comment period to provide additional opportunity for public comment.

Cost Impact

About 33 airplanes of U.S. registry would be affected by this proposed AD.

The actions that are currently required by AD 2001-22-02, and retained in this proposed AD, take about 1 work hour per airplane to accomplish, at an average labor rate of $65 per work hour. Based on these figures, the cost impact of the currently required actions on U.S. operators is estimated to be $65 per airplane.

The new inspection that would be required by the proposed AD would take about 1 work hour per airplane to accomplish, at an average labor rate of $65 per work hour. Based on these figures, the cost impact of the new inspections on U.S. operators is estimated to be $2,145, or $65 per airplane, per inspection cycle.

The new modification that would be required by the proposed AD would take about 4 hours per airplane to accomplish, at an average labor rate of $65 per work hour. Required parts cost would be minimal. Based on these figures, the cost impact of the new modification on U.S. operators is $8,580, or $260 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12481 (66 FR 54416, October 29, 2001), and by adding a new airworthiness directive (AD), to read as follows:

Airbus: Docket 2003-NM-16-AD. Supersedes AD 2002-08-13, Amendment 39-12481.

Applicability: Model A300 B2 and B4 series airplanes, certificated in any category; except those airplanes modified by Airbus Modification 12656.

Compliance: Required as indicated, unless accomplished previously.

To prevent failure of both spring boxes of the variable lever arm (VLA) due to corrosion damage, which could result in loss of rudder control and consequent reduced controllability of the airplane, accomplish the following:

Restatement of the Requirements of AD 2001-22-02

(a) Within 10 days after November 13, 2001 (the effective date of AD 2001-22-02, amendment 39-12481): Determine the part and amendment numbers of the VLA of the rudder control system to verify the parts were installed using the correct standard, in accordance with Airbus All Operators Telex (AOT) A300-27A0196, dated September 20, 2001; or in accordance with the Accomplishment Instructions of Airbus Service Bulletin A300-27-0196, Revision 01, dated November 13, 2002.

(1) If the part and amendment numbers shown are not correct, as specified in the AOT or the service bulletin, before further flight, do a detailed inspection of the VLA tie rod for damage (bent or ruptured rod) in accordance with the AOT or the service bulletin.

(i) If the tie rod is damaged, replace the VLA with a new VLA in accordance with the AOT or the service bulletin. Such replacement ends the requirements of this paragraph.

(ii) If the tie rod is not damaged, no further action is required by this paragraph.

(2) If the part and amendment numbers shown are correct, no further action is required by this paragraph.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

New Requirements of This AD

(b) For airplanes having a VLA with any part number (P/N) other than 418473-20 or 418473-200: Within 500 flight hours after the effective date of this AD, do a detailed inspection of the tie rod for damage (bent or ruptured rod), in accordance with the Accomplishment Instructions of Airbus Service Bulletin A300-27-0196, Revision 01, dated November 13, 2002. Repeat the inspection thereafter at intervals not to exceed 1,000 flight hours, until paragraph (f) of this AD has been accomplished.

Replacement or Repair

(c) If any damage is found to the VLA or the rudder control system during any inspection required by paragraph (a)(1) or (b) of this AD, before further flight, replace the VLA with a new VLA (including a follow-up test) in accordance with the Accomplishment Instructions of Airbus Service Bulletin A300-27-0196, Revision 01, dated November 13, 2002.

Actions Accomplished in Accordance With Previous Issue of the Service Bulletin

(d) Actions accomplished before the effective date of this AD in accordance with Airbus Service Bulletin A300-27-0196, dated September 20, 2002, are considered acceptable for compliance with the corresponding actions specified in paragraphs (a), (b), and (c) of this AD.

No Reporting/Parts Return Requirements

(e) Although Airbus Service Bulletin A300-27-0196, Revision 01, dated November 13, 2002, describes procedures for submitting certain information to the manufacturer, and for returning certain parts to the manufacturer, this AD does not require those actions.

Terminating Modification

(f) Within 24 months after the effective date of this AD: Modify the applicable VLA, as required by either paragraph (f)(1) or (f)(2) of this AD, by doing all the applicable actions in accordance with the Accomplishment Instructions of Airbus Service Bulletin A300-27-0198, dated December 1, 2003. Accomplishing this modification ends the repetitive inspections required by paragraph (b) of this AD.

(1) For any VLA having a spring box with P/N 418473-20 or 418473-200: Install a new identification plate and re-identify the VLA.

(2) For any VLA having a spring box with P/N 418473 or 418473-100: Modify the spring box and re-identify the VLA.

Note 2: Airbus Service Bulletin A300-27-0198, dated December 1, 2003, references Goodrich Actuation Systems Service Bulletin 27-21-1H, Revision 3, dated December 8, 2003, as an additional source of service information for accomplishing the modification.

Alternative Methods of Compliance

(g) In accordance with 14 CFR 39.19, the Manager, International Branch, FAA, ANM-116, Transport Airplane Directorate, is authorized to approve alternative methods of compliance for this AD.

Note 3: The subject of this AD is addressed in French airworthiness directive F-2004-091(B), dated June 23, 2004.

Issued in Renton, Washington, on September 29, 2004.
Kalene C. Yanamura,
Acting Manager, , Transport Airplane Directorate, Aircraft Certification Service.

[FR Doc. 04-22356 Filed 10-4-04; 8:45 am]

BILLING CODE 4910-13-P